DEPARTMENT OF TRANSPORTATION

National Highway Traffic Safety Administration

[Docket No. NHTSA-2012-0021]

National Emergency Medical Services Advisory Council (NEMSAC); Notice of Federal Advisory Committee Meeting

AGENCY: National Highway Traffic Safety Administration (NHTSA), U.S. Department of Transportation (DOT).

ACTION: Meeting Notice—National Emergency Medical Services Advisory Council.

SUMMARY: The NHTSA announces a meeting of NEMSAC to be held in the Metropolitan Washington, DC area. This notice announces the date, time, and location of the meeting, which will be open to the public. This meeting will include a special roundtable event, hosted by the NEMSAC, regarding the EMS Education Agenda for the Future. The purpose of NEMSAC is to provide a nationally recognized council of emergency medical services (EMS) representatives and consumers to provide advice and recommendations regarding EMS to DOT's National Highway Traffic Safety Administration.

DATES: The NEMSAC meeting will take place over two and a half days and be held on Wednesday March 28, 2012, from 9 a.m. to 5 p.m. EST, Thursday March 29, 2012, from 1 p.m. to 5 p.m. EST, and on Friday March 30, 2012, from 8 a.m. to 12 p.m. EST. NEMSAC committees will meet from 8 a.m. to 12 p.m. on March 29, 2012. Public comment periods will be scheduled throughout the day of March 28, 2012, as well as from 3:30 p.m. to 4:30 p.m. EST on March 29, 2012.

ADDRESSES: The meeting will be held on the 8th floor of the FHI 360 Conference Center at 1825 Connecticut Avenue NW., Washington, DC 20009.

FOR FURTHER INFORMATION CONTACT: Drew Dawson, Director, U.S. Department of Transportation, Office of Emergency Medical Services, 1200 New Jersey Avenue SE., NTI-140, Washington, DC 20590, telephone number (202) 366-9966; email Drew.Dawson@dot.gov.

SUPPLEMENTARY INFORMATION: Notice of this meeting is given under the Federal Advisory Committee Act, Public Law 92-463, as amended (5 U.S.C. App.). NEMSAC will meet on March 28-30, 2012, at the FHI 360 Conference Center at 1825 Connecticut Avenue NW., Washington, DC 20009. This meeting will include a special roundtable event, hosted by the NEMSAC, regarding the EMS Education Agenda for the Future. The purpose of the March 28, 2012, roundtable is to provide NEMSAC with stakeholder input about the EMS Education Agenda for the Future: A Systems Approach including a briefing on the Agenda's history and lessons learned from its implementation throughout the United States. This stakeholder input will help NEMSAC in making recommendations to the Department of Transportation and the Federal Interagency Committee on EMS regarding: The Agenda's future and a process for revising/updating the Agenda as deemed necessary and appropriate.

Agenda of National EMS Advisory Council Meeting, March 28-30, 2012

The tentative agenda includes the following:

Wednesday, March 28, 2012

(1) Opening Remarks

(2) History and Overview of the EMS Education Agenda for the Future

(3) Panel Discussion #1—Successes and Challenges in Implementing the Current Agenda

(4) Panel Discussion #2—Opportunities and Challenges in Revising the Agenda

(5) Panel Discussion #3—The Process To Revise the Agenda

(6) Next Steps

Thursday, March 29, 2012

(1) Opening Remarks

(2) Review and Approval of Minutes of Last Meeting

(3) Update From NHTSA Office of EMS

(4) Federal Partner Update

(5) Presentations From NEMSAC Committees

(6) Public Comment Period

Friday, March 30, 2012

(1) Deliberations of Committee Documents

(2) Discussion of New and Emerging Issues

(3) Unfinished Business/Continued Discussion From Previous Day

(4) Next Steps and Adjourn

Public comment periods will be scheduled throughout the day of March 28, 2012, as well as from 3:30 p.m. to 4:30 p.m. EST on March 29, 2012. Written comments or requests to make oral presentations must be received by March 21, 2012, by emailing nemsac@dot.gov. In order to allow as many people as possible to speak, speakers are requested to limit their remarks to 5 minutes.

Public Attendance: This meeting will be open to the public. There will not be a teleconference option for this meeting. Individuals wishing to attend must register online at www.regonline.com/NEMSAC no later than March 26, 2012.

Minutes of the NEMSAC Meeting will be available to the public online through www.EMS.gov.

Issued on: February 13, 2012.
Jeffrey P. Michael,
Associate Administrator for Research and Program Development.

[FR Doc. 2012-3624 Filed 2-15-12; 8:45 am]

BILLING CODE 4910-59-P